DEPARTMENT OF HOUSING AND URBAN DEVELOPMENT

[Docket No. FR-7075-N-03]

60-Day Notice of Proposed Information Collection: Evaluation of the Eviction Protection Grant Program; OMB Control No.: 2528-NEW

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: June 12, 2023.

ADDRESSES: Interested persons are invited to submit comments regarding this proposal. Written comments and recommendations for the proposed information collection can be sent within 60 days of publication of this notice to OIRA_submission@omb.eop.gov or www.reginfo.gov/public/do/PRAMain. Find this particular information collection by selecting “Currently under 60-day Review—Open for Public Comments” or by using the search function. Interested persons are also invited to submit comments regarding this proposal by name and/or OMB Control Number and can be sent to: Anna Guido, Reports Management Officer, REE, Department of Housing and Urban Development, 451 7th Street SW, Room 8210, Washington, DC 20410-5000; telephone 202-402-5535 (this is not a toll-free number) or email at PaperworkReductionActOffice@hud.gov for a copy of the proposed forms or other available information.

FOR FURTHER INFORMATION CONTACT: Anna Guido, Reports Management Officer, Department of Housing and Urban Development, 451 7th Street SW, Washington, DC 20410; email Anna Guido at PaperworkReductionActOffice@hud.gov, telephone 202-402-5535 (this is not a toll-free number). HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in section A.

A. Overview of Information Collection

Title of Information Collection: Evaluation of the Eviction Protection Grant Program.

OMB Approval Number: 2528-Pending.

Type of Request: New data collection.

Form Number: N/A.

Description of the need for the information and proposed use: The purpose of this proposed information collection is to gather information in support of an evaluation of the U.S. Department of Housing and Urban Development's (HUD) Eviction Protection Grant Program. The overall purpose of the Eviction Protection Grant Program is to support experienced legal service providers, not limited to legal service corporations, in providing legal assistance at no cost to low-income tenants at risk of or subject to eviction. In 2021, HUD selected 10 grantees for the first round of awards, and in FY 2022, HUD selected 11 additional grantees for the second round of awards. HUD's evaluation of the Eviction Protection Grant Program will include data collection from the first two rounds of 21 grantees and their subrecipients that are helping to administer the program, as well as from program participants.

The evaluation of the Eviction Protection Grant Program is a mixed-methods and multiphase study designed to understand how the grantees implemented this new program and to assess the effectiveness of the grant program in supporting low-income families at risk or facing eviction through the provision of legal assistance at no-cost to eligible households. The evaluation is comprised of an implementation analysis utilizing qualitative and quantitative data to understand how the Eviction Protection Grant Program reduces or prevents eviction among program participants. The evaluation will comprehensively document the implementation of the Eviction Protection Grant Program, including a review and collection of data to understand successes and challenges to program implementation, the characteristics of grantees and other stakeholders, the types of client services provided, how grantees work with other social service providers, and program outcomes.

Over the course of the evaluation, HUD plans to conduct two rounds of data collection. The first round of primary data collection will take place early in the grant period and be focused on assessing program rollout, program take-up, and program implementation. The second round of primary data collection will take place later in the grant period and will focus on the overall experience of grantees, subrecipients, and program participants with the Eviction Protection Grant Program. Each round of data collection will include semi-structured interviews with staff from each of the 21 grantees and their 21 subrecipients, as well as data collection from program participants to understand their perspective on the program. HUD intends to conduct focus groups with program participants, but if that is not feasible, HUD will conduct 1:1 online interviews with a sample of program participants.

In the first round of data collection, HUD plans to conduct 42 semi-structured interviews, which will include 126 grantee and subrecipient staff (an average of three staff per interview). In the second round of data collection, HUD again plans to conduct 42 semi-structured interviews, which will include 126 grantee and subrecipient staff (an average of three staff per interview). Across both rounds of data collection, HUD will facilitate 21 focus groups with 105 program participants (5 program participants per focus group), and 1:1 online interviews with 42 program participants.

All outreach may be made available in language-appropriate materials suggested by grantees as relevant for their beneficiary population. Recruitment materials will also specify the process of requesting accommodations for people with limited English proficiency and reasonable accommodations for persons with disabilities.

Respondents (i.e., affected public): Staff from the 21 grantees of HUD's Eviction Protection Grant Program, staff from the 21 grant subrecipients, and a sample of program participants.

Estimated Number of Respondents: 273 unique respondents (126 grantee and subrecipient staff, and 147 program participants).

Frequency of Response: Once for grantee and subrecipient staff in the first round of data collection; once for grantee and subrecipient staff in the second round; once for program participants.

Average Hours per Response: Semi-structured interviews with grantee and subrecipient staff are expected to last an average of 1 hour in the first round of data collection. Semi-structured interviews with grantee and subrecipient staff are expected to last an average of 1 hour in the second round of data collection. Focus groups with program participants are expected to last 90 minutes. 1:1 online interviews with program participants are expected to last 45 minutes. Informed consent for the program participants to provide contact information is expected to take 10 minutes. Informed consent for the program participants to participate in the study is expected to take 5 minutes.

Total Estimated Burdens: 477.75 hours.

Exhibit A—Annualized Burden Table
Information collection | Number of respondents | Frequency of response | Responses per annum | Burden hour per response | Annual burden hours | Hourly cost per response | Cost
Round 1 Interview with Grantee/Subrecipient Staff | 126 | 1 | 1 | 1 | 126 | $77.42 | $9,754.92
Round 2 Interview with Grantee/Subrecipient Staff | 126 | 1 | 1 | 1 | 126 | 77.42 | 9,754.92
Focus Group with Program Participants | 105 | 1 | 1 | 1.5 | 157.5 | 41.86 | 6,592.95
Interview with Program Participants | 42 | 1 | 1 | 0.75 | 31.5 | 41.86 | 1,318.59
Informed Consent to Provide Contact Information | 147 | 1 | 1 | 0.17 | 24.5 | 41.86 | 1,025.57
Informed Consent to Participate in the Study | 147 | 1 | 1 | 0.08 | 12.25 | 41.86 | 512.79
Total |  |  |  |  | 477.75 |  | 28,959.74

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. 3507.

Todd Richardson,
General Deputy Assistant Secretary for Policy Development and Research.

[FR Doc. 2023-07701 Filed 4-11-23; 8:45 am]

BILLING CODE 4210-67-P